SMALL BUSINESS ADMINISTRATION

[Disaster Declaration #12645 and #12646]

Montana Disaster Number MT-00063

AGENCY: U.S. Small Business Administration.

ACTION: Amendment 1.

SUMMARY: This is an amendment of the Presidential declaration of a major disaster for Public Assistance Only for the State of Montana (FEMA-1996-DR), dated 06/17/2011.

Incident: Severe Storms and Flooding.

Incident Period: 04/03/2011 and continuing.

Effective Date: 07/22/2011.

Physical Loan Application Deadline Date: 08/16/2011.

Economic Injury (EIDL) Loan Application Deadline Date: 03/19/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Montana, dated 06/17/2011, is hereby amended to include the following areas as adversely affected by the disaster.

Primary Counties: Daniels, Deer Lodge, Flathead, Glacier, Granite, Jefferson, Lewis and Clark, Liberty, Madison, Park, Pondera, Powell, Ravalli, Richland, Sheridan, Teton, Toole, and the Blackfeet Indian Reservation.

All other information in the original declaration remains unchanged.

(Catalog of Federal Domestic Assistance Numbers 59002 and 59008)

James E. Rivera,
Associate Administrator for Disaster Assistance.

[FR Doc. 2011-19238 Filed 7-28-11; 8:45 am]

BILLING CODE 8025-01-P